DEPARTMENT OF DEFENSE

Department of the Army; Corps of Engineers

Intent To Prepare a Draft Environmental Impact Statement for the West Shore-Lake Pontchartrain, Louisiana, Hurricane and Storm Damage Risk Reduction Feasibility Study

AGENCY: Department of the Army, U.S. Army Corps of Engineers, DoD.

ACTION: Notice of intent.

SUMMARY: This notice of intent (NOI) supersedes the NOI published in the Federal Register June 23, 1998 (63 FR 34151). The U.S. Army Corps of Engineers, New Orleans District (USACE) intends to prepare an environmental impact statement (EIS) for the West Shore-Lake Pontchartrain, Louisiana, Hurricane and Storm Damage Risk Reduction Feasibility Study. This study will determine the feasibility and assess the environmental impacts of providing hurricane and storm damage risk reduction measures in the study area. The study area is bounded by the Bonnet Carre Spillway to the east, the Mississippi River to the south, Lakes Pontchartrain and Maurepas to the north, and St. James Parish/Ascension Parish line to the west.

DATES: See SUPPLEMENTARY INFORMATION section for scoping meeting dates.

FOR FURTHER INFORMATION CONTACT: Questions regarding the feasibility study should be directed to Mr. Durund Elzey, Sr., CEMVN-PM-W, P.O. Box 60267, New Orleans, LA, 70160-0267; telephone: (504) 862-1674; fax: (504) 862-2089; or by e-mail at: durund.elzey@usace.army.mil. Questions regarding the EIS should be directed to Dr. William P. Klein, Jr., CEMVN-PD-RS, P.O. Box 60267, New Orleans, LA, 70160-0267; telephone: (504) 862-2540; fax: (504) 862-1583; or by e-mail at: william.p.klein.jr@usace.army.mil.

SUPPLEMENTARY INFORMATION:

1. Authority. This study is authorized by a resolution adopted on July 29, 1971, by the Committee on Public Works of the U.S. House of Representatives; and by a resolution adopted on September 20, 1974, by the Committee on Public Works of the U.S. Senate.

2. Background. On June 23, 1998, a NOI was published in the Federal Register (63 FR 34151) for preparing an EIS for the West Shore-Lake Pontchartrain, LA, Hurricane Protection Feasibility Study. Concurrently, the USACE and the project sponsor, the Pontchartrain Levee District (PLD), began evaluating various potential measures to reduce the risk of hurricane-induced flooding in the study area. In 2001, USACE advanced the study to a point where a federally-preferred alternative was tentatively identified. Discussions between USACE, PLD, and St. John the Baptist Parish from 2001 to 2003 evaluated the technical and environmental merits of this and other alternatives. Although USACE, PLD, and St. John the Baptist Parish agreed on the importance of providing protection for the area, a consensus could not be reached on how this objective should be achieved at that time. In 2006 and 2007 USACE and PLD renewed their discussion of providing hurricane and storm damage reduction measures in light of the critical lessons learned following Hurricanes Katrina and Rita. These discussions led to an agreement between USACE and PLD to re-initiate and complete the feasibility study and prepare a Feasibility Report and EIS for the project.

3. Proposed Action. The USACE proposes to investigate the feasibility of providing hurricane and storm damage risk reduction to residents living in the area west of the Bonnet Carre Spillway between the Mississippi River and Lakes Pontchartrain and Maurepas. The study area is located on the east bank of the Mississippi River and includes portions of St. Charles, St. John the Baptist, and St. James Parishes. Feasibility study evaluations performed since 1998 have identified four preliminary levee alignments. In general, each preliminary levee alignment system would extend protection from the west guide levee of the Bonnet Carre Spillway to the vicinity of the Hope Canal. One preliminary alignment would extend the levee into Ascension Parish to tie into an existing non-federal levee. The EIS will document the process of identifying and assessing the environmental impacts of the proposed action and reasonable alternatives, including the identification of measures that would avoid or minimize adverse effects on the quality of the natural and human environment. Specifically, the EIS will analyze the potential direct, indirect, and cumulative impacts of providing hurricane and storm damage risk reduction for portions of St. John the Baptist, St. James, and St. Charles Parishes. The Draft EIS will consider reasonable alternatives for providing hurricane and storm damage risk reduction, including alternatives developed under previous efforts, as well other recommendations from the public and interested parties.

4. Public Involvement. Public involvement, an essential part of the EIS process, is integral to assessing the environmental consequences of the proposed action and improving the quality of the environmental decision making. The public includes affected and interested Federal, state, and local agencies, Indian tribes, concerned citizens, stakeholders, and other interested parties. Public participation in the EIS process will be strongly encouraged, both formally and informally, to enhance the probability of a more technically accurate, economically feasible, and socially and politically acceptable EIS. Public involvement will include but is not limited to: information dissemination; identification of problems, needs and opportunities; idea generation; public education; problem solving; providing feedback on proposals; evaluation of alternatives; conflict resolution by consensus; public and scoping notices and meetings; public, stakeholder and advisory groups consultation and meetings; and making the EIS and supporting information readily available in conveniently located places, such as libraries and on the internet.

5. Scoping. Scoping, an early and open process for identifying the scope of significant issues related to the proposed action to be addressed in the EIS, will be used to: (a) Identify the affected public and agency concerns; (b) facilitate an efficient EIS preparation process; (c) define the issues and alternatives that will be examined in detail in the EIS; and (d) save time in the overall process by helping to ensure that the draft EIS adequately addresses relevant issues. A public scoping meeting will be held on Wednesday January 21, 2009, from 6 p.m. until 9 p.m. in LaPlace, LA. Announcements through local media as well as a scoping meeting public notice announcing the locations, dates and times of the scoping meeting will be mailed to all interested parties in December 2008. Interested parties are encouraged to express their views throughout the entire study process. Scoping comments will be welcomed at the public scoping meeting. In addition, written comments will also be accepted during the scoping comment period which will extend 30 days from the date of the scoping meeting public notice.

6. Interagency Coordination and Cooperation. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS and the National Marine Fisheries Service (NMFS) regarding threatened and endangered species under their respective jurisdictional responsibilities. Coordination will be maintained with the NMFS regarding Essential Fish Habitat. Coordination will be maintained with the Natural Resources Conservation Service regarding prime and unique farmlands. The U.S. Department of Agriculture will be consulted regarding the “Swampbuster” provisions of the Food Security Act. Coordination will be maintained with the Advisory Counsel on Historic Preservation and the State Historic Preservation Officer. The Louisiana Department of Natural Resources will be consulted regarding consistency with the Coastal Zone Management Act. The Louisiana Department of Wildlife and Fisheries will be consulted concerning potential impacts to Natural and Scenic Streams. Coordination will be maintained with the U.S. Environmental Protection Agency concerning compliance with Executive Order 12898, “Federal Action to Address Environmental Justice in Minority Populations and Low-Income Populations.”

7. Availability of EIS. It is anticipated that the draft EIS will be available for public review during the spring of 2010. The draft EIS or a notice of availability will be provided during the 45-day review period to affected Federal, state and local agencies, Indian tribes, and other interested parties.

Dated: November 26, 2008.
Mark D. Jernigan,
Major (P), U.S. Army, Deputy District Commander.

[FR Doc. E8-28823 Filed 12-4-08; 8:45 am]

BILLING CODE 3720-58-P